DEPARTMENT OF COMMERCE

Foreign-Trade Zones Board

[Order No. 2009]

Expansion of Foreign-Trade Zone 149 Under Alternative Site Framework Freeport, Texas

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, Port Freeport, grantee of Foreign-Trade Zone 149, submitted an application to the Board (FTZ Docket B-65-2015, docketed September 22, 2015) for authority to expand existing Site 1 of the zone under the ASF to include additional acreage in Freeport, Texas, adjacent to the Freeport Customs and Border Protection port of entry;

Whereas, notice inviting public comment was given in the Federal Register (80 FR 58464, September 29, 2015) and the application has been processed pursuant to the FTZ Act and the Board's regulations; and,

Whereas, the Board adopts the findings and recommendation of the examiner's report, and finds that the requirements of the FTZ Act and the Board's regulations are satisfied;

Now, Therefore, the Board hereby orders:

The application to expand FTZ 149—Site 1 under the ASF is approved, subject to the FTZ Act and the Board's regulations, including Section 400.13, to the Board's standard 2,000-acre activation limit for the zone.

Signed at Washington, DC, this 29th day of 2016.
Ronald K. Lorentzen,
Acting Assistant Secretary of Commerce for Enforcement and Compliance, Alternate Chairman, Foreign-Trade Zones Board.

[FR Doc. 2016-18784 Filed 8-8-16; 8:45 am]

BILLING CODE 3510-DS-P